DEPARTMENT OF JUSTICE

Notice of Lodging of Proposed Modification to Consent Decree Under the Comprehensive Environmental Response, Compensation, and Liability Act

On February 4, 2026, the Department of Justice lodged a proposed Third Joint Stipulation to Modify Consent Decree with the United States District Court for the Central District of California in the lawsuit entitled United States and the State of California v. ITT LLC, et al., Civil Action No. 2:99-cv-00552.

In 1999, the United States and the State of California Department of Toxic Substances Control filed a lawsuit against numerous parties under the Comprehensive Environmental Response, Compensation, and Liability Act in connection with groundwater contamination at the Glendale North and South Operable Units of the San Fernando Valley (Area 2) Superfund Site in and around Glendale, California. The complaint sought reimbursement of response costs and the performance of response work by the defendants. In 2000, a consent decree settling the case was entered by the court. Pursuant to the consent decree, certain settling defendants (referred to in the consent decree as “Settling Work Defendants”) have been performing response work at the site in coordination with the City of Glendale.

The proposed Third Joint Stipulation provides that the Settling Work Defendants will not request a Certificate of Completion regarding the work before November 30, 2030, and they and the City of Glendale shall continue to perform their respective work until at least November 30, 2030.

The publication of this notice opens a period for public comment on the Third Joint Stipulation to Modify Consent Decree. Comments should be addressed to the Assistant Attorney General, Environment and Natural Resources Division, and should refer to United States and the State of California v. ITT LLC, et al., D.J. Ref. No. 90-11-2-442A. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Third Joint Stipulation to Modify Consent Decree may be examined and downloaded at this Justice Department website: https://www.justice.gov/enrd/consent-decrees. If you require assistance accessing the Third Joint Stipulation to Modify Consent Decree, you may request assistance by email or by mail to the addresses provided above for submitting comments.

Scott Bauer,
Assistant Section Chief, Environmental Enforcement Section, Environment and Natural Resources Division.

[FR Doc. 2026-02823 Filed 2-11-26; 8:45 am]

BILLING CODE 4410-15-P